DEPARTMENT OF TRANSPORTATION

Surface Transportation Board

[STB Finance Docket No. 34716]

R.J. Corman Railroad Company/Bardstown Line, d/b/a R.J. Corman Railroad Company/WV Lines—Lease and Operation Exemption—Line of R.J. Corman Railroad Property, LLC

R.J. Corman Railroad Company/Bardstown Line, d/b/a R.J. Corman Railroad Company/WV Lines (RJCV), a Class III rail carrier,¹ has filed a verified notice of exemption under 49 CFR 1150.41 to lease from R.J. Corman Railroad Property, LLC (Railroad Property) and operate a line of railroad (the Loup Creek Branch) extending from milepost 0.0 at Thurmond, WV, to milepost 12.0 at Mt. Hope, WV, a distance of approximately 12 miles.

¹ RJCV is controlled by Richard J. Corman, who also controls eight other Class III rail carriers in the eastern United States.

This transaction is related to STB Finance Docket No. 34715, R.J. Corman Railroad Property, LLC—Acquisition Exemption—Line of The Railroad Co. and The WV Southern Railway Co., in which Railroad Property seeks to acquire the Loup Creek Branch.

RJCV certifies that the projected annual revenues as a result of this transaction will not result in the creation of a Class II or Class I rail carrier, and further certifies that its projected annual revenues will not exceed $5 million.

The transaction was scheduled to be consummated on July 8, 2005.

If the notice contains false or misleading information, the exemption is void ab initio. Petitions to revoke the exemption under 49 U.S.C. 10502(d) may be filed at any time. The filing of a petition to revoke will not automatically stay the transaction.

An original and 10 copies of all pleadings, referring to STB Finance Docket No. 34716, must be filed with the Surface Transportation Board, 1925 K Street, NW., Washington, DC 20423-0001. In addition, one copy of each pleading must be served on Ronald A. Lane, Fletcher & Sippel LLC, 29 North Wacker Drive, Suite 920, Chicago, IL 60606-2832.

Board decisions and notices are available on our Web site at http://www.stb.dot.gov.

Decided: July 22, 2005.
By the Board, David M. Konschnik, Director, Office of Proceedings.
Vernon A. Williams,
Secretary.

[FR Doc. 05-15009 Filed 7-28-05; 8:45 am]

BILLING CODE 4915-01-P